ENVIRONMENTAL PROTECTION AGENCY

40 CFR Part 262

[EPA-HQ-RCRA-2005-0018; FRL-9929-93-OSWER]

Transboundary Shipments of Hazardous Wastes Between OECD Member Countries: Revisions to the List of OECD Member Countries

AGENCY: Environmental Protection Agency (EPA).

ACTION: Final rule.

SUMMARY: The U.S. Environmental Protection Agency (EPA or the Agency) is amending certain existing regulations that apply to the transboundary movement of hazardous waste among the Organization for Economic Cooperation and Development (OECD) Member countries as promulgated under the hazardous waste provisions of the Resource Conservation and Recovery Act (RCRA). Specifically, EPA is updating the list of OECD member countries to add Estonia, Israel, and Slovenia. This amendment is necessary to accurately reflect the change in OECD Member countries that have implemented OECD Decision C(2001)107 and can trade hazardous wastes for recovery operations with other OECD countries under the procedure set forth in that Decision.

DATES: This final rule is effective on July 2, 2015.

ADDRESSES: EPA has established a docket for this action under Docket ID No. EPA-HQ-RCRA-2005-0018. All documents in the docket are listed on the www.regulations.gov Web site. Although listed in the index, some information is not publicly available, e.g., CBI or other information whose disclosure is restricted by statute. Certain other material, such as copyrighted material, is not placed on the Internet and will be publicly available only in hard copy form. Publicly available docket materials are available either electronically through www.regulations.gov or in hard copy at the EPA Docket Center, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the RCRA Docket is (202) 566-0270.

FOR FURTHER INFORMATION CONTACT: Karen Swetland, U.S. Environmental Protection Agency, Office of Resource Conservation and Recovery, (MC: 5304P), 1200 Pennsylvania Avenue NW., Washington, DC, 20460, Phone: 703-308-8421; or by email: swetland.karen@epa.gov.

SUPPLEMENTARY INFORMATION:

I. General Information

A. Does this action apply to me?

This action applies to all persons who export or import hazardous waste, export or import universal waste, or export spent lead-acid batteries destined for recovery operations in OECD Member countries, except for Mexico and Canada. Any transboundary movement of hazardous wastes between the United States and either Mexico or Canada will continue to be governed (or addressed) by their respective bilateral agreements and applicable regulations. Potentially affected entities may include, but are not limited to:

Industry sector | NAICS Code
Utilities | 221100
Petroleum and Coal Products Manufacturing | 324
Chemical Manufacturing | 325100
Primary Metal Manufacturing | 331
Fabricated Metal Product Manufacturing | 332
Machinery Manufacturing | 333
Computer and Electronic Product Manufacturing | 334110
Electrical Equipment, Appliance, and Component Manufacturing | 335
Transportation Equipment Manufacturing | 336
Miscellaneous Manufacturing | 339900
Scrap and Waste Materials | 423930
Material Recovery Facilities | 562920

This list is not intended to be exhaustive, but rather provides a guide for readers regarding entities likely to be affected by this action. Other types of entities not listed in this section could also be affected. The North American Industrial Classification System (NAICS) codes have been provided to assist you and others in determining whether this action might apply to certain entities. If you have any questions regarding the applicability of this action to a particular entity, consult the person listed under the FOR FURTHER INFORMATION CONTACT section of this document.

B. How can I get copies of this document and other related information?

The current information is as follows:

• Docket ID No. EPA-HQ-RCRA-2005-0018.

• Federal eRulemaking Portal: http://www.regulations.gov.

II. What does this amendment do?

This amendment updates the list of OECD member countries that have implemented OECD Decision C(2001)107 and can trade hazardous wastes for recovery operations with other OECD countries under the procedure set forth in that Decision. On January 8, 2010, EPA published a final rule in the Federal Register (75 FR 1236), revising Agency regulations including provisions on the transboundary movement of hazardous waste for recovery operations among OECD Member countries. In that final rule, EPA identified thirty OECD Member countries (including Canada and Mexico). That document was accurate and current at the time of publication; however, Estonia, Israel, and Slovenia have since joined the OECD and implemented OECD Decision C(2001)107. As an OECD Member country, the United States, is legally obligated to implement OECD Decisions with respect to all OECD Member countries. Therefore, EPA is adding Estonia, Israel, and Slovenia to update the list of countries in 40 CFR part 262.58(a)(1).

III. Why is this amendment issued as a final rule?

Section 553 of the Administrative Procedure Act (APA), 5 U.S.C. 553(b)(3)(B), provides that, when an Agency for good cause finds that notice and public procedure are impracticable, unnecessary or contrary to the public interest, the Agency may issue a final rule without providing notice and an opportunity for public comment. EPA believes notice and an opportunity for comment on this amendment to § 262.58(a)(1) to reflect updates to the list of OECD Member countries would be unnecessary, because the United States, as an OECD Member country, is legally obligated to implement OECD Decision C(2001)107 with respect to all OECD Member countries, which now include the addition of Estonia, Israel and Slovenia. Thus, EPA must amend its OECD regulations to add these three countries, and any public comment would be unnecessary for these particular amendments because EPA does not have any discretion as to which OECD countries its regulations must include. EPA finds that this situation constitutes good cause under 5 U.S.C. 553(b)(3)(B).

IV. Do any of the statutory and executive order reviews apply to this action?

Under Executive Order 12866 (58 FR 51735, October 4, 1993) and Executive Order 13563 (76 FR 3821, January 21, 2011), this action is not a “significant regulatory action” and is therefore not subject to OMB review. Because this action is not subject to notice and comment requirements under the Administrative Procedure Act or any other statute, it is not subject to the Regulatory Flexibility Act (5 U.S.C. 601 et seq.) or Sections 202 and 205 of the Unfunded Mandates Reform Act of 1999 (UMRA) (Pub. L. 104-4). In addition, this action does not significantly or uniquely affect small governments. This action does not create new binding legal requirements that substantially and directly affect Tribes under Executive Order 13175 (65 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of Section 12(d) of the National Technology Transfer and Advancement Act of 1995 (15 U.S.C. 272 note) do not apply.

A. Congressional Review Act

This action is subject to the Congressional Review Act (CRA), and the EPA will submit a rule report to each House of Congress and to the Comptroller General of the United States. The CRA allows the issuing agency to make a rule effective sooner than otherwise provided by the CRA if the agency makes a good cause finding that notice and comment rulemaking procedures are impracticable, unnecessary or contrary to the public interest (5 U.S.C. 808(2)). The EPA has made a good cause finding for this rule as discussed in Section III of the preamble, including the basis for that finding.

List of Subjects in 40 CFR Part 262

Environmental protection, Exports, Hazardous materials transportation, Hazardous waste, Imports, Labeling, Packaging and containers, Reporting and recordkeeping requirements.

Dated: June 22, 2015.
Mathy Stanislaus,
Assistant Administrator, Office of Solid Waste and Emergency Response.

For the reasons stated in the preamble, title 40, chapter I of the Code of Federal Regulations is amended as follows:

PART 262—STANDARDS APPLICABLE TO GENERATORS OF HAZARDOUS WASTE

1. The authority citation for Part 262 continues to read as follows:

Authority: 42 U.S.C. 6906, 6912, 6922-6925, 6937, and 6938.

2. Amend § 262.58 by revising paragraph (a)(1) to read as follows:

§ 262.58 International agreements.

(a) * * *

(1) For the purposes of subpart H, the designated OECD Member countries consist of Australia, Austria, Belgium, the Czech Republic, Denmark, Estonia, Finland, France, Germany, Greece, Hungary, Iceland, Ireland, Israel, Italy, Japan, Luxembourg, the Netherlands, New Zealand, Norway, Poland, Portugal, the Republic of Korea, the Slovak Republic, Slovenia, Spain, Sweden, Switzerland, Turkey, the United Kingdom, and the United States.

* * * * *

[FR Doc. 2015-16400 Filed 7-1-15; 8:45 am]

BILLING CODE 6560-50-P